DEPARTMENT OF TRANSPORTATION

Federal Aviation Administration

14 CFR Part 39

[Docket No. 99-CE-87-AD]

RIN 2120-AA64

Airworthiness Directives; GARMIN International GNS 430 Units

AGENCY: Federal Aviation Administration, DOT.

ACTION: Notice of proposed rulemaking (NPRM).

SUMMARY: This document proposes to adopt a new airworthiness directive (AD) that would apply to certain GARMIN International (GARMIN) GNS 430 units that are installed on aircraft. The proposed AD would require you to modify the unit to incorporate circuitry changes to the GNS 430 unit's deviation and flag outputs. The proposed AD is the result of reports of inaccurate course deviations caused by external electrical noise to the GNS 430 unit's course deviation indicator (CDI). The actions specified by the proposed AD are intended to prevent such external noise from causing inaccurate course deviation displays in the GNS 430 unit's CDI or horizontal situation indicator (HSI). Such displays could result in the pilot making flight decisions that put the aircraft in unsafe flight conditions.

ADDRESSES: The Federal Aviation Administration (FAA) must receive any comments on this rule on or before September 21,2001. Submit comments in triplicate to FAA, Central Region, Office of the Regional Counsel, Attention: Rules Docket No. 99-CE-87-AD, 901 Locust, Room 506, Kansas City, Missouri 64106. Comments may be inspected at this location between 8 a.m. and 4 p.m., Monday through Friday, holidays excepted.

You may obtain service information that applies to the proposed AD from GARMIN International, 1200 East 151st Street, Olathe, Kansas 66062. You may also examine this information at the Rules Docket at the address above.

FOR FURTHER INFORMATION CONTACT: Roger A. Souter, FAA,Wichita Aircraft Certification Office (ACO), 1801 Airport Road, Room 100, Wichita, Kansas 67209; telephone: (316) 946-4134; facsimile: (316) 946-4407; e-mail: roger.souter@faa.gov.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 99-CE-87-AD.” We will date stamp and mail the postcard back to you.

Discussion

What events have caused this proposed AD? The FAA has received information that external electrical noise to the course deviation indicator (CDI) of GARMIN GNS 430 units could result in the CDI or horizontal situation indicator (HSI) displaying inaccurate course deviations. This could prompt the pilot to make flight decisions that put the aircraft in unsafe flight conditions.

Certain GNS 430 installations have received electrical noise between 1 and 3 volts alternating current (AC) peak-peak (induced into the GNS 430 CDI input) from other items installed on the aircraft. This high level of noise causes an undesirable oscillation of the CDI outputs, which results in inaccurate course deviation displays in the GNS 430 unit's CDI/HSI.

The condition is installation dependent. The GNS 430 units continue to meet all requirements in the technical standard order (TSO). The condition occurs in aircraft with installations that impose large noise spikes upon the CDI D-bar control wiring. Such installations are autopilots, fan motors, or similar accessories.

What are the consequences if the condition is not corrected?As described above, such external noise could cause inaccurate course deviation displays in the GNS 430 unit's CDI/HSI. This could result in the pilot making flight decisions that put the aircraft in unsafe flight conditions.

Relevant Service Information

Is there service information that applies to this subject?GARMIN has issued Service Bulletin No.: 9905, Revision A, dated September 17, 1999.

What are the provisions of this service bulletin? The service bulletin includes information on how to modify the GNS 430 unit to incorporate circuitry changes to the deviation and flag outputs. This includes:

—Main Board: removing and replacing six capacitors, removing two diodes, removing and replacing two resistors, and adding two resistors and two jumpers; and

—Nav Board: removing and replacing seven capacitors and adding four capacitors.

This service bulletin also specifies the part number GNS 430 units that could exhibit the above condition.

The FAA's Determination and an Explanation of the Provisions of the Proposed AD

What has FAA decided? After examining the circumstances and reviewing all available information related to the incidents described above, we have determined that:

—The unsafe condition referenced in this document exists or could develop on type design aircraft that incorporate the GARMIN GNS 430 units;

—The actions specified in the previously-referenced service information should be accomplished on these aircraft; and

—AD action should be taken in order to correct this unsafe condition.

What would the proposed AD require? This proposed AD would require you to modify the unit to incorporate circuitry changes to the GNS 430 unit's deviation and flag outputs. The proposed actions would be accomplished in accordance with GARMIN Service Bulletin No.: 9905, Revision A, dated September 17, 1999.

Cost Impact

How many aircraft would the proposed AD impact? We estimate that 2,010 affected GARMIN GNS 430 units could be installed on aircraft in the U.S. registry.

What would be the cost impact of the proposed AD on owners/operators of the affected aircraft? GARMIN will cover all workhours and parts costs associated with this modification under warranty. The proposed AD would not impose any cost impact upon the owners/operators of any aircraft incorporating one of the affected GNS 430 units.

Compliance Time of the Proposed AD

What is the compliance time of the proposed AD? The compliance time of this proposed AD is within the next 6 months after the effective date of the proposed AD.

Why is the proposed compliance time presented in calendar time instead of hours time-in-service (TIS)? The compliance time for this AD is presented in calendar time instead of hours TIS because the condition exists regardless of aircraft operation. The external noise outputs could occur and cause the inaccurate CDI/HSI displays regardless of the number of times and hours the aircraft was operated or the age of the GNS 430 unit. For these reasons, FAA has determined that a compliance based on calendar time should be utilized in the proposed AD in order to ensure that the unsafe condition is addressed within a reasonable time period on all aircraft with an affected GNS 430 unit installed.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Garmin International: Docket No. 99-CE-87-AD

(a) What products are affected by this AD? This AD applies to the GNS 430 units that are specified in paragraph (a)(1) of this AD and are installed on aircraft. These GNS 430 units are installed in, but not limited to, aircraft that are certificated in any category and presented in paragraph (a)(2) of this AD:

(1) GNS 430 Units, part number 011-00280-00: serial numbers 96300001, 96300002, 96300017, 96300028, 96300034, 96300040, 96300068, 96300104, 96300108, 96300122, 96300125, 96300130, 96300142, 96300149, 96300161, 96300165, 96300218, 96300222, 96300232, 96300269, 96300272, 96300308, 96300333, 96300340, 96300348, 96300354, 96300369, 96300372, 96300382, 96300394, 96300411, 96300413, 96300429, 96300437, 96300451, 96300484, 96300485, 96300489, 96300504, 96300506, 96300513, 96300522, 96300549, 96300563, 96300585, 96300587, 96300618, 96300621, 96300624, 96300628, 96300641, 96300653, 96300664, 96300713, 96300734, 96300756, 96300766, 96300781, 96300785, 96300786, 96300808, 96300831, 96300837, 96300842, 96300846, 96300866, 96300870, 96300872, 96300899, 96300916, 96300923, 96300925, 96300929, 96300941, 96300961, 96300984, 96300987, 96301021, 96301108, 96301130, 96301280, and 96301296 through 96303200.

(2) Aircraft with the GNS 430 Unit Installation (other aircraft could have field approval installations):

TC holder | Airplane models
Cessna Aircraft Company | 172, 182, 206, 208, 210, 401, 402, 404, 406, 411, 414, 414A, 421A, 421B, 421C, 425, 441, 500, 550, S550, 552, 560, 560XL, 501,525, and 551.
Mooney Aircraft Corporation | M20, M20A, M20B, M20C, M20D, M20E, M20F, M20G, M20J, M20K, M20L, M20M, M20R, M20S, and M22.
Raytheon Aircraft Company | Beech Models E33, F33, G33, E33A, F33A, E33C, F33C, 35, 35R, A35, B35, B35TC, C35, D35, E35, F35, G35, H35, J35, K35, M35, N35, P35, S35, V35, V35TC, V35A, V35A-TC, V35B, V35B-TC, 36, A36, A36TC, 50, B50, C50, D50, D50A, D50B, D50C, D50E, E50, F50, G50, H50, J50, 60, A60, B60, 65-90, 65-A90, B90, C90, C90A, C90B, E90, F90, 100, A100, B100, 95-55, 95-A55, 95-B55, 95-C55, D-55, E55, 58, 58P, and 58TC.
Socata | TBM 700.
The New Piper Aircaft, Inc. | J3C-40, J3C-50, J3C-50S(Army L-4, L-4B, L-4H, and L-4J),J3C-65 (Navy NE-1 and NE-2), J3C-65S, J3F-50, J3F-50S, J3F-60, J3F-60S, J3F-65 (Army L-4D), J3F-65S, J3L, J3L-S, J3L-65 (Army L-4C), J3L-65S, J4, J4A, J4A-S, J4E (Army L-4E), J5A (Army L-4F), J5A-80, J5B(Army L-4G), J5C, AE-1, HE-1, PA-11, PA-11S, PA-12, PA-12S, PA-14,PA-15, PA-16, PA-16S, PA-17, PA-18,PA-18A, PA-18A (Restricted), PA-18S, PA-18-“105” (Special), PA-18S-“105” (Special), PA-18-“125” (Army L-21A), PA-18AS-“125”, PA-18S-“125”, PA-18-“135” (Army L-21B), PA-18A-“135”, PA-18A-“135” (Restricted), PA-18AS-“135”, PA-18S-“135”, PA-18-“150”, PA-18A-“150”, PA-18A-“150” (Restricted), PA-18AS-“150”, PA-18S-“150”, PA-19 (Army L-18C), PA-19S, PA-20, P-20S, PA-20-“115”, PA-20S-“115”, PA-20-“135”,PA-20S-“135”, PA-22, PA-22-108, PA-22-135, PA-22S-135, PA-22-150, PA-22S-150, PA-22-160, PA-22S-160, PA-24, PA-24-250, PA-24-260, PA-24-400, PA-25, PA-25-235, PA-25-260,PA-28-140, PA-28-150, PA-28-151, PA-28-160, PA-28-161, PA-28-180, PA-28-235, PA-28S-160, PA-28R-180, PA-28S-180, PA-28-181, PA-28R-200, PA-28R-201, PA-28R-201T, PA-28RT-201, PA-28RT-201T, PA-28-201T, PA28-236, PA-32R-301 (SP), PA-32R-301 (HP), PA-32R-301T, PA-32-301, PA-32-301T, PA-36-285, PA-36-300, PA-36-375, PA-38-112, PA-46-310P, and PA-46-350P.

(b) Who must comply with this AD? Anyone who wishes to operate any aircraft with one of the affected GNS 430 units installed must comply with this AD.

(c) What problem does this AD address? The actions specified by this AD are intended to prevent external noise from causing inaccurate course deviation displays in the GNS 430 unit's course deviation indicator (CDI) or horizontal situation indicator (HSI). Such displays could result in the pilot making flight decisions that put the aircraft in unsafe flight conditions.

(d) What actions must I accomplish to address this problem? To address this problem, you must accomplish the following:

Action | Compliance time | Procedures
(1) Modify the affected GNS 430 unit modified to incorporate circuitry changes to the deviation and flag outputs | Within the next 6 months after the effective date of this AD | In accordance with the MODIFICATION INSTRUCTIONS section of GARMIN Service Bulletin No.: 9905, Revision A, dated September 17, 1999.
(2) Do not install an affected GNS 430 unit unless it has been modified as required by paragraph (d)(1) of this AD | As of the effective date of this AD | In accordance with the MODIFICATION INSTRUCTIONS section of GARMIN Service Bulletin No.: 9905, Revision A, dated September 17, 1999.

(e) Can I comply with this AD in any other way? You may use an alternative method of compliance or adjust the compliance time if:

(1) Your alternative method of compliance provides an equivalent level of safety; and

(2) The Manager, Wichita Aircraft Certification Office, approves your alternative. Send your request through an FAA Principal Maintenance Inspector, who may add comments and then send it to the Manager, Wichita Aircraft Certification Office.

Note: This AD applies to any aircraft with the equipment installed as identified in paragraph (a) of this AD, regardless of whether the aircraft has been modified, altered, or repaired in the area subject to the requirements of this AD. For aircraft that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Roger A. Souter, FAA, Wichita Aircraft Certification Office (ACO), 1801 Airport Road, Room 100, Wichita, Kansas 67209; telephone: (316) 946-4134; facsimile: (316) 946-4407, e-mail: roger.souter@faa.gov.

(g) What if I need to fly the aircraft to another location to comply with this AD? The FAA can issue a special flight permit under sections 21.197 and 21.199 of the Federal Aviation Regulations (14 CFR 21.197 and 21.199) to operate your aircraft to a location where you can accomplish the requirements of this AD.

(h) How do I get copies of the documents referenced in this AD? You may obtain copies of the documents referenced in this AD from GARMIN International, 1200 East 151st Street, Olathe, Kansas 66062. You may examine these documents at FAA, Central Region, Office of the Regional Counsel, 901 Locust, Room 506, Kansas City, Missouri 64106.

Issued in Kansas City, Missouri, on July 23, 2001.
Michael Gallagher,
Manager, Small Airplane Directorate, Aircraft Certification Service.

[FR Doc. 01-19094 Filed 8-3-01; 8:45 am]

BILLING CODE 4910-13-P